DEPARTMENT OF THE TREASURY

Office of Thrift Supervision

[No. 2003-34]

2003-2008 Strategic Plan Notice; Request for Comments

AGENCY: Office of Thrift Supervision (OTS), Treasury.

ACTION: Notice and request for comment.

SUMMARY: The Office of Thrift Supervision (OTS) updates its Strategic Plan every three years. The mission and strategic goals contained in the plan support statutory and regulatory requirements, current and long-range industry issues, feedback from stakeholders, and long-range strategic objectives. The goals and objectives are implemented through annual performance plans.

OTS requests comments on its draft 2003-2008 Strategic Plan. The draft Plan is available on the OTS Internet site at www.ots.treas.gov under About OTS: Plans and Reports.

DATES: Comments must be submitted by August 22, 2003.

ADDRESSES: Mail: Send comments to: Strategic Plan Comments, ISAF, Office of Thrift Supervision, 1700 G Street, NW., Washington, DC 20552 Attention: Paula Lane, No. 2003-34. Commenters should be aware that there have been unpredictable and lengthy delays in postal deliveries to the Washington, DC area and may prefer to make their comments via facsimile, e-mail, or hand delivery.

Delivery: Hand deliver comments to the Guard's Desk, East Lobby Entrance, 1700 G Street, NW., from 9 a.m. to 4 p.m. on business days, Attention: Strategic Plan Comments, Paula Lane, No. 2003-34.

Facsimiles: Send facsimile transmissions to Fax number (202) 906-6700, Attention: Paula Lane No. 2003-34.

E-Mail: Send e-mails to Paula.Lane@ots.treas.gov; Subject: Strategic Plan Comments No. 2003-34, and include your name and telephone number.

FOR FURTHER INFORMATION CONTACT: Paula Lane, Financial Reporting Analyst, (202) 906-6727, Quality Assurance & Management Support, or Barbara Taylor, Director, Quality Assurance & Management Support, Information Systems, Administration & Finance, (202) 906-7510, Office of Thrift Supervision, 1700 G Street, NW., Washington, DC 20552.

Dated: July 31, 2003.
By the Office of Thrift Supervision.
James E. Gilleran,
Director.

[FR Doc. 03-20472 Filed 8-11-03; 8:45 am]

BILLING CODE 6720-01-P